DEPARTMENT OF COMMERCE

Bureau of the Census

15 CFR Part 30

[Docket Number: 151222999-7734-03]

RIN 0607-AA55

Foreign Trade Regulations (FTR): Clarification on Filing Requirements; Correction

AGENCY: Bureau of the Census, Commerce Department.

ACTION: Correcting amendments.

SUMMARY: On April 19, 2017, the Census Bureau revised the Foreign Trade Regulations (FTR). The revisions to the FTR reflected the implementation of the International Trade Data System, in accordance with the Executive Order 13659, Streamlining the Export/Import Process for American Businesses. In the Final Rule, the Census Bureau also amended the appendices section. Appendices B, C, E, and F were removed and appendix D was revised and redesignated as the new appendix B. With the revisions to the appendices section, there are a few sections of the FTR that were inadvertently not updated to reflect these changes. This document corrects the final regulations.

DATES: Effective on September 20, 2017.

FOR FURTHER INFORMATION CONTACT: Dale C. Kelly, Chief, International Trade Management Division, U.S. Census Bureau, Washington, DC 20233-6010, by phone: (301) 763-6937, by fax: (301) 763-8835, or by email: dale.c.kelly@census.gov.

SUPPLEMENTARY INFORMATION:

Background

The Census Bureau is responsible for collecting, compiling, and publishing trade statistics for the United States under the provisions of Title 13 of the United States Code (U.S.C.), Chapter 9, Section 301. The Census Bureau published a Final Rule in the Federal Register (82 FR 18383, April 19, 2017) that revised the Foreign Trade Regulations (FTR) to reflect new export reporting requirements. In the Final Rule the Census Bureau amended the appendices section. Appendices B, C, E, and F were removed and appendix D was revised and redesignated as the new appendix B. With the revisions to the appendices section, there are a few sections of the FTR that were inadvertently not updated to reflect the changes to the appendices.

Program Requirements

To comply with the requirements of the Foreign Relations Act, Public Law 107-228, the Census Bureau is amending relevant sections of the FTR to revise or clarify export reporting requirements. Therefore, the Census Bureau is correcting 15 CFR part 30 by making the following correcting amendments:

• Revise § 30.1(c) to replace the reference to appendix D with appendix B in the definition of “Exemption legend” because appendix D is redesignated as appendix B.

• Revise § 30.1(c) to replace the reference to appendix D with appendix B in the definition of “Postdeparture filing citation” because appendix D is redesignated as appendix B.

• Revise § 30.3(e)(2)(xi) to replace “Foreign port of unloading” with “Foreign port of unlading.”

• Revise § 30.4(b)(3) to replace “Foreign port of unloading” with “Foreign port of unlading.”

• Revise § 30.4(b)(4)(ii)(A) to replace the reference to appendix D with appendix B because appendix D is redesignated as appendix B.

• Revise § 30.6(a)(18) to remove the reference to appendix B because this appendix is removed from the FTR.

• Revise § 30.7(b) to replace the reference to appendix D with appendix B because appendix D is redesignated as appendix B.

• Revise § 30.8 introductory text to replace the reference to appendix D with appendix B because appendix D is redesignated as appendix B.

• Revise § 30.8(b) to replace the reference to § 30.46 with § 30.4(c)(2) for requirements for the filing of export information by pipeline carriers.

• Revise § 30.35 to replace the reference to appendix D with appendix B because appendix D is redesignated as appendix B.

• Revise appendix B, IX to replace the reference to § 30.40(d) with § 30.40(c).

List of Subjects in 15 CFR Part 30

Economic statistics, Exports, Foreign trade, Reporting and recordkeeping requirements.

Accordingly, 15 CFR part 30 is corrected by making the following correcting amendments:

PART 30—FOREIGN TRADE REGULATIONS

1. The authority citation for part 30 continues to read as follows:

Authority: 5 U.S.C. 301; 13 U.S.C. 301-307; Reorganization plan No. 5 of 1990 (3 CFR 1949-1953 Comp., p. 1004); Department of Commerce Organization Order No. 35-2A, July 22, 1987, as amended, and No. 35-2B, December 20, 1996, as amended; Pub. L. 107-228, 116 Stat. 1350.

2. Amend § 30.1(c) by revising the definitions for “Exemption legend” and “Postdeparture filing citation” to read as follows:

§ 30.1 Purpose and definitions.

* * * * *

(c) * * *

Exemption legend. A notation placed on the bill of lading, air waybill, export shipping instructions, or other commercial loading document that describes the basis for not filing EEI for an export transaction. The exemption legend shall reference the number of the section or provision in the FTR where the particular exemption is provided (See appendix B to this part).

* * * * *

Postdeparture filing citation. A notation placed on the bill of lading, air waybill, export shipping instructions, or other commercial loading documents that states that the EEI will be filed after departure of the carrier. (See appendix B of this part.)

* * * * *

3. Amend § 30.3 by revising paragraph (e)(2)(xi) to read as follows:

§ 30.3 Electronic Export Information filer requirements, parties to export transactions, and responsibilities of parties to export transactions.

* * * * *

(e) * * *

(2) * * *

(xi) Foreign port of unlading.

* * * * *

4. Amend § 30.4 by revising paragraphs (b)(3) and (b)(4)(ii)(A) to read as follows:

§ 30.4 Electronic Export Information filing procedures, deadlines, and certification statements.

* * * * *

(b) * * *

(3) For shipments between the United States and Puerto Rico, the USPPI or authorized agent shall provide the proof of filing citation, postdeparture filing citation, AES downtime filing citation, exemption or exclusion legend to the exporting carrier by the time the shipment arrives at the port of unlading.

(4) * * *

(ii) * * *

(A) Provide the appropriate downtime filing citation as described in § 30.7(b) and appendix B of this part; and

* * * * *

5. Amend § 30.6 by revising paragraph (a)(18) to read as follows:

§ 30.6 Electronic Export Information data elements.

* * * * *

(a) * * *

(18) Export information code. A code that identifies the type of export shipment or condition of the exported items (e.g., goods donated for relief or charity, impelled shipments, shipments under the Foreign Military Sales program, household goods, and all other shipments).

* * * * *

6. Amend § 30.7 by revising paragraphs (b) to read as follows:

§ 30.7 Annotating the bill of lading, air waybill, or other commercial loading documents with proof of filing citations, and exemption legends.

(a) * * *

(b) For shipments other than USML, the USPPI or the authorized agent is responsible for annotating the proper proof of filing citation or exemption legend on the first page of the bill of lading, air waybill, export shipping instructions or other commercial loading documents. The USPPI or the authorized agent must provide the proof of filing citation or exemption legend to the exporting carrier. The carrier must annotate the proof of filing citation, exemption or exclusion legends on the carrier's outbound manifest when required. The carrier is responsible for presenting the appropriate proof of filing citation or exemption legend to CBP Port Director at the port of export as stated in subpart E of this part. Such presentation shall be without material change or amendment of the proof of filing citation, postdeparture filing citation, AES downtime filing citation, or exemption legend as provided to the carrier by the USPPI or the authorized agent. The proof of filing citation will identify that the export information has been accepted as transmitted. The postdeparture filing citation, AES downtime filing citation, or exemption legend will identify that no filing is required prior to export. The proof of filing citations, postdeparture filing citations, or exemption legends shall appear on the bill of lading, air waybill or other commercial loading documentation and shall be clearly visible. The AES filing citation, exemption or exclusion legends are provided for in appendix B of this part. The exporting carrier shall annotate the manifest or other carrier documentation with the AES filing citations, exemption or exclusions legends.

* * * * *

7. Amend § 30.8 by revising the introductory text and paragraph (b) to read as follows:

§ 30.8 Time and place for presenting proof of filing citations and exemption legends.

The following conditions govern the time and place to present proof of filing citations, postdeparture filing citations, AES downtime filing citation, exemption, or exclusion legends. The USPPI or the authorized agent is required to deliver the proof of filing citations, postdeparture filing citations, AES downtime filing citations, exemption, or exclusion legends required in § 30.7 to the exporting carrier. See appendix B of this part for the properly formatted proof of filing citations, exemption, or exclusion legends. Failure of the USPPI or the authorized agent of either the USPPI or FPPI to comply with these requirements constitutes a violation of the regulations in this part and renders such principal party or the authorized agent subject to the penalties provided for in subpart H of this part.

* * * * *

(b) Pipeline exports. The proof of filing citations or exemption and exclusion legends for items being sent by pipeline shall be presented to the operator of a pipeline no later than four calendar days after the close of the month. See § 30.4(c)(2) for requirements for the filing of export information by pipeline carriers.

* * * * *

8. Revise § 30.35 to read as follows:

§ 30.35 Procedure for shipments exempt from filing requirements.

Except as noted in § 30.2(a)(1)(iv), where an exemption from the filing requirement is provided in this subpart, a legend describing the basis for the exemption shall be made on the first page of the bill of lading, air waybill, or other commercial loading document, and on the carrier's outbound manifest. The exemption legend shall reference the number of the section or provision in this part where the particular exemption is provided (see appendix B of this part).

9. Revise appendix B to read as follows:

Appendix B to Part 30—AES Filing Citation, Exemption and Exclusion Legends

I. Proof of Filing Citation | AES ITN Example: AES X20170101987654
II. Postdeparture Citation—USPPI, USPPI is filing the EEI | AESPOST USPPI EIN Date of Export (mm/dd/yyyy) Example: AESPOST 12345678912 01/01/2017
III. Postdeparture Citation—Agent, Agent is filing the EEI | AESPOST USPPI EIN—Filer ID Date of Export (mm/dd/yyyy) Example: AESPOST 12345678912—987654321 01/01/2017
IV. AES downtime Filing Citation—Use only when AES or AES Direct is unavailable | AESDOWN Filer ID Date of Export (mm/dd/yyyy) Example: AESDOWN 123456789 01/01/2017
V. Exemption for Shipments to Canada | NOEEI § 30.36
VI. Exemption for Low-Value Shipments | NOEEI § 30.37(a)
VII. Miscellaneous Exemption Statements are found in 15 CFR part 30, subpart D, § 30.37(b) through (y) | NOEEI § 30.37 (site corresponding alphabet)
VIII. Special Exemption for Shipments to the U.S. Armed Forces | NOEEI § 30.39
IX. Special Exemptions for Certain Shipments to U.S. Government Agencies and Employees (Exemption Statements are found in 15 CFR part 30, subpart D, § 30.40(a) through (c) | NOEEI § 30.40 (site corresponding alphabet)
X. Split Shipments Split Shipments should be referenced as such on the manifest in accordance with provisions contained in § 30.28, Split Shipments. The notation should be easily identifiable on the manifest. It is preferable to include a reference to a split shipment in the exemption statements cited in the example, the notation SS should be included at the end of the appropriate exemption statement | AES ITN SS Example: AES X20170101987654 SS

Dated: September 14, 2017.
Ron S. Jarmin,
Associate Director for Economic Programs, performing the non-exclusive functions and duties of the Director, Bureau of the Census.

[FR Doc. 2017-20060 Filed 9-19-17; 8:45 am]

BILLING CODE 3510-07-P